DEPARTMENT OF AGRICULTURE

Natural Resources Conservation Service

[Docket ID: NRCS-2024-0007]

Urban Agriculture and Innovative Production Advisory Committee

AGENCY: Natural Resources Conservation Service, United States Department of Agriculture.

ACTION: Notice to solicit nominees; correction.

SUMMARY: The Department of Agriculture's (USDA) Office of Urban Agriculture and Innovative Production (OUAIP) notice published in the Federal Register on May 1, 2024, concerning nominations for four new members to serve on the Urban Agriculture and Innovative Production Advisory Committee (UAIPAC). We are republishing the entire contents of the May 1, 2024, notice to correct the list of the four vacancies for which OUAIP is seeking nominations for individuals to serve on UAIPAC. The UAIPAC advises the Secretary of Agriculture on the development of policies and outreach relating to urban, indoor, and other emerging agricultural production practices. The 12 members appointed by the Secretary of Agriculture are expected to serve a 3-year term. The 2024 nomination period includes four vacancies, including one individual who is an agriculture producer or farmer using innovative technology; one individual from an institution of higher education or extension program; one individual with supply chain experience, which may include a food aggregator, wholesale food distributor, food hub, or an individual who has direct-to-consumer market experience; and one individual with related experience in urban, indoor, and other emerging agriculture production practices.

DATES: USDA will consider nominations received via email or postmarked by July 6, 2024.

ADDRESSES: Please send nominations via email to: UrbanAgricultureFederalAdvisoryCommittee@usda.gov. Email is the preferred method for sending nominations. Alternatively, nominations can be mailed to Brian Guse, Director of the Office of Urban Agriculture and Innovative Production, Department of Agriculture, 1400 Independence Avenue SW, Room 4083, Washington, DC 20250.

FOR FURTHER INFORMATION CONTACT: Markus Holliday, Coordinator, Office of Urban Agriculture and Innovative Production; telephone: (301) 974-1287; email: UrbanAgricultureFederalAdvisoryCommitee@usda.gov.

Individuals who require alternative means for communication may contact the USDA TARGET Center at (202) 720-2600 (voice and text telephone (TTY)) or dial 711 for Telecommunications Relay service (both voice and text telephone users can initiate this call from any telephone).

SUPPLEMENTARY INFORMATION:

Correction

The USDA OUAIP notice published in the Federal Register on May 1, 2024, (89 FR 35053—35054) concerning nominations for four new members to serve on the Urban Agriculture and Innovative Production Advisory Committee (UAIPAC). We are republishing the entire contents of the May 1, 2024, notice to correct the list of the four vacancies for which OUAIP is seeking nominations for individuals to serve on UAIPAC. The 2024 nomination period includes four vacancies, including one individual who is an agriculture producer or farmer using innovative technology; one individual from an institution of higher education or extension program; one individual with supply chain experience, which may include a food aggregator, wholesale food distributor, food hub, or an individual who has direct-to-consumer market experience; and one individual with related experience in urban, indoor, and other emerging agriculture production practices.

UAIPAC Overview and Membership

Section 222 of the Department of Agriculture Reorganization Act of 1994, as amended by section 12302 of the 2018 Farm Bill (7 U.S.C. 6923; Pub. L. 115-334), directed the Secretary of Agriculture to establish an “Urban Agriculture and Innovative Production Advisory Committee” to advise the Secretary on any aspect of section 222, including the development of policies and outreach relating to urban, indoor, and other emerging agricultural production practices as well as identify any barriers to urban agriculture. UAIPAC will host public meetings to deliberate on recommendations for the Secretary of Agriculture. These recommendations provide advice to the Secretary on supporting urban agriculture and innovative production through USDA's programs and services. For additional background and member information visit the UAIPAC website at https://www.usda.gov/partnerships/federal-advisory-committee-urban-ag.

The UAIPAC consists of 12 members including:

• 4 representatives who are agriculture producers including 2 individuals who are located in an urban area or urban cluster; and 2 individuals who are farmers that use innovative technology;

• 2 representatives from an institution of higher education or extension program;

• 1 representative from a nonprofit organization, which may include a public health, environmental, or community organization;

• 1 representative who represents business and economic development, which may include a business development entity, a chamber of commerce, a city government, or a planning organization;

• 1 expert with supply chain experience, which may include a food aggregator, wholesale food distributor, food hub, or an individual who has direct-to-consumer market experience;

• 1 representative from a financing entity; and

• 2 representatives with related experience or expertise in urban, indoor, and other emerging agriculture production practices, as determined by the Secretary.

Member Nominations

Nominations are open to the public. Any interested person or organization may nominate qualified individuals for membership, including self-nominations. Individuals who wish to be considered for membership must submit a nomination package to include the following required items:

(1) A completed background disclosure form (Form AD-755) signed by the nominee (see https://www.usda.gov/sites/default/files/documents/ad-755.pdf);

(2) A brief summary explaining the nominee's interest in one or more open vacancies including any unique qualifications that address the membership composition and criteria described above; and

(3) A résumé providing the nominee's background, experience, and educational qualifications.

It will be helpful to include the following optional items in your nomination package:

(1) Recent publications by the nominee relative to extending support for urban agriculture or innovative production; and

(2) Letter(s) of endorsement.

Please send nominations via email to: UrbanAgricultureFederalAdvisoryCommittee@usda.gov as the preferred method. Alternatively, nominations can be mailed to Brian Guse, Director of the Office of Urban Agriculture and Innovative Production, Department of Agriculture, 1400 Independence Avenue SW, Room 4083, Washington, DC 20250.

The USDA OUAIP is seeking nominations for individuals to serve on UAIPAC. The nomination period includes the following four vacancies:

• One individual who is an agirculture producer or farmer using innovative technology;

• One individual from an institution of higher education or extension program;

• One individual with supply chain experience, which may include a food aggregator, wholesale food distributor, food hub, or an individual who has direct-to-consumer market experience; and

• One individual with related experience in urban, indoor, and other emerging agriculture production practices.

Ethics Statement

To maintain the highest levels of honesty, integrity, and ethical conduct, no committee or subcommittee member may participate in any “specific party matters” (for example, matters are narrowly focused and typically involve specific transactions between identified parties) such as a lease, license, permit, contract, claim, grant, agreement, or related litigation with USDA in which the committee or subcommittee member has a direct financial interest. This includes the requirement for committee or subcommittee members to immediately disclose to the Designated Federal Officer (DFO) (for discussion with USDA's Office of Ethics) any specific party matter in which the member's immediate family, relatives, business partners or employer would be directly seeking to financially benefit from the committee's recommendations.

All members will receive ethics training to identify and avoid any actions that would cause the public to question the integrity of the committee's advice and recommendations. Members who are appointed as “Representatives” are not subject to Federal ethics laws because the appointment allows them to represent the point(s) of view of a particular group, business sector or segment of the public.

Members appointed as “Special Government Employees” (SGEs) are considered intermittent Federal employees and are subject to Federal ethics laws. SGE's are appointed due to their personal knowledge, academic scholarship, background or expertise. No SGE may participate in any activity in which the member has a prohibited financial interest. Appointees who are SGEs are required to complete and submit a Confidential Financial Disclosure Report (OGE-450 form) via the FDonline e-filing database system. Upon request USDA will assist SGEs in preparing these financial reports. To ensure the highest level of compliance with applicable ethical standards USDA will provide ethics training to SGEs on an annual basis. The provisions of these paragraphs are not meant to exhaustively cover all Federal ethics laws and do not affect any other statutory or regulatory obligations to which advisory committee members are subject.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunicaions Relay Service (both voice and text telephone users can initiate this call from any phone). Additionally, program information may be made available in languages other than English.

Equal opportunity practices in accordance with USDA's policies will be followed in all appointments to the FACA Committee: UAIPAC. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: OAC@usda.gov.

USDA is an equal opportunity provider, employer, and lender.

Dated: May 2, 2024.
Cikena Reid,
Committee Management Officer, USDA.

[FR Doc. 2024-09952 Filed 5-2-24; 4:15 pm]

BILLING CODE 3410-16-P